NATIONAL FOUNDATION ON THE ARTS AND THE HUMANITIES

National Endowment for the Arts; Arts Advisory Panel—Notice of Change

Pursuant to Section 10(a)(2) of the Federal Advisory Committee Act (Pub. L. 92-463), as amended, notice is hereby given that, to accommodate scheduling issues, there has been a change in the times of the open sessions for two meetings of the Arts Advisory Panel to the National Council on the Arts, as follows:

Learning in the Arts (application review): October 10-13, 2006 in Room 716. The open session for this meeting was previously announced as 4:15 p.m. to 5 p.m. on October 13th. The open session will, instead, be held from 1 p.m. to 1:45 p.m.

Learning in the Arts (application review): October 26-27, 2006 in Room 716. The open session for this meeting was previously announced as 5:30 p.m. to 6 p.m. on October 27th. The open session will, instead, be held from 2:30 p.m. to 3 p.m.

The closed portions of meetings are for the purpose of Panel review, discussion, evaluation, and recommendations on financial assistance under the National Foundation on the Arts and the Humanities Act of 1965, as amended, including information given in confidence to the agency. In accordance with the determination of the Chairman of April 8, 2005, these sessions will be closed to the public pursuant to subsection (c)(6) of section 552b of Title 5, United States Code.

Any person may observe meetings, or portions thereof, of advisory panels that are open to the public, and if time allows, may be permitted to participate in the panel's discussions at the discretion of the panel chairman. If you need special accommodations due to a disability, please contact the Office of AccessAbility, National Endowment for the Arts, 1100 Pennsylvania Avenue, NW., Washington, DC 20506, 202/682-5532, TDY-TDD 202/682-5496, at least seven (7) days prior to the meeting.

Further information with reference to these meetings can be obtained from Ms. Kathy Plowitz-Worden, Office of Guidelines & Panel Operations, National Endowment for the Arts, Washington, DC 20506, or call 202/682-5691.

Dated: October 3, 2006.
Kathy Plowitz-Worden,
Panel Coordinator, Panel Operations, National Endowment for the Arts.

[FR Doc. E6-16639 Filed 10-6-06; 8:45 am]

BILLING CODE 7537-01-P